DEPARTMENT OF HOUSING AND URBAN DEVELOPMENT

[Docket No. FR-4950-C-24A, FR-4950-C-34B]

Notice of HUD's Fiscal Year (FY) 2005 Notice of Funding Availability Policy Requirements and General Section to SuperNOFA for HUD's Discretionary Grant Programs (SuperNOFA); Notice of Extension of Application Submission Date for Areas Affected by Hurricane Dennis

AGENCY: Office of the Secretary, HUD.

ACTION: Notice of extension of application submission date for applicants submitting applications from areas affected by Hurricane Dennis.

SUMMARY: This notice announces the extension of submission deadline dates for two programs announced in the Fiscal Year 2005 SuperNOFA, the Rural Housing and Economic Development (RHED) NOFA and the Public Housing Neighborhood Networks NOFA, for those applicants located within the states significantly affected by Hurricane Dennis including Alabama, Florida, Georgia, and Mississippi. The submission deadline for these two funding opportunities was July 11, 2005. For those applicants located in one of these states, the revised submission date is August 22, 2005. For applicants unaffected by Hurricane Dennis, the submission deadline remains unchanged.

FOR FURTHER INFORMATION CONTACT: For the Public Housing Neighborhood Networks NOFA, contact the Public and Indian Housing Information Resource Center toll-free at 1-800-955-2232 and for Indian Tribes and Tribally Designated Housing Entities (TDHE), call toll-free at 1-800-561-5913.

For the Rural Housing and Economic Development NOFA, contact Jackie Williams, Director, Office of Rural Housing and Economic Development, Department of Housing and Urban Development, 451 Seventh Street, SW., Washington, DC 20410-7000; telephone (202) 708-2290 (this is not a toll-free number).

Hearing- or speech-impaired persons may access these telephone numbers by calling the toll-free Federal Information Relay Service on 1-800-877-8339.

SUPPLEMENTARY INFORMATION: On March 21, 2005 (70 FR 13575), HUD published its FY2005 SuperNOFA, which announced the availability of approximately $2.26 billion in HUD assistance. In a Federal Register notice published on May 18, 2005 (70 FR 28553), HUD extended the application submission deadline for the Public Housing Neighborhood Networks NOFA to July 11, 2005. On May 25, 2005 (70 FR 30136), HUD reopened the NOFA competition for the RHED program and extended the deadline to July 11, 2005.

Due to Hurricane Dennis, which caused widespread power outages in the states of Alabama, Florida, Georgia, and Mississippi, the Department is extending the deadline for the RHED and Public Housing Neighborhood Networks NOFAs to August 22, 2005. This extension affects only applicants located in these four states. HUD will accept applications to the RHED program NOFA and Public Housing Neighborhood Networks program NOFA from applicants in the four affected states either through Grants.gov, or in hard copy (paper) submission consistent with the instructions in the March 21, 2005, SuperNOFA General Section, except that these affected applicants are not required to obtain a waiver from the electronic submission requirement and HUD recommends applicants use an overnight delivery method to ensure timely receipt of paper applications. Hard copy submissions should be sent to the appropriate address listed as follows:

Public Housing Neighborhood Networks Program

Department of Housing and Urban Development, Attn: Anice M. Schverish, 451 Seventh Street, SW., Room 3236, Washington, DC 20410-5000.

(Applicants to the Public Housing Neighborhood Networks Program should submit an original and two copies of the application.)

Rural Housing and Economic Development

Department of Housing and Urban Development, Attn: Jackie L. Williams, Office of Rural Housing and Economic Development, 451 Seventh Street, SW., Room 7137, Washington, DC 20410-7000.

(Applicants to the RHED program should submit an original and two copies of the application.)

Dated: August 8, 2005.
Roy A. Bernardi,
Deputy Secretary.

[FR Doc. E5-4458 Filed 8-15-05; 8:45 am]

BILLING CODE 4210-29-P